DEPARTMENT OF COMMERCE

National Oceanic and Atmospheric Administration

50 CFR Part 635

[Docket No. 050927248-5310-02; I.D. 090805C]

RIN 0648-AT74

Atlantic Highly Migratory Species; Atlantic Commercial Shark Management Measures

AGENCY: National Marine Fisheries Service (NMFS), National Oceanic and Atmospheric Administration (NOAA), Commerce.

ACTION: Final rule; fishing season notification.

SUMMARY: This rule establishes the 2006 first trimester season quotas for large coastal sharks (LCS) and small coastal sharks (SCS) based on over- and underharvests from the 2005 first trimester season. In addition, this rule establishes the opening and closing dates for the LCS fishery based on adjustments to the trimester quotas. This action could affect all commercial fishermen in the Atlantic commercial shark fishery. This action is necessary to ensure that the landings quotas in the Atlantic commercial shark fishery represent the latest landings data.

DATES: This rule is effective January 1, 2006. The Atlantic commercial shark fishing season opening and closing dates and quotas for the 2006 first trimester season by region are provided in Table 1 under Supplementary Information.

ADDRESSES: For copies of this rule, write to Highly Migratory Species Management Division, 1315 East-West Highway, Silver Spring, MD 20910. Copies are also available on the internet at http://www.nmfs.noaa.gov/sfa/hms.

FOR FURTHER INFORMATION CONTACT: Chris Rilling or Karyl Brewster-Geisz by phone: 301-713-2347 or by fax: 301-713-1917.

SUPPLEMENTARY INFORMATION: The Atlantic shark fishery is managed under the authority of the Magnuson-Stevens Fishery Conservation and Management Act (Magnuson-Stevens Act). The Fishery Management Plan (FMP) for Atlantic Tunas, Swordfish, and Sharks, finalized in 1999, and Amendment 1 to the FMP for Atlantic Tunas, Swordfish, and Sharks (Amendment 1), finalized in 2003, are implemented by regulations at 50 CFR part 635. Information regarding the rules establishing the regional quotas and the procedures for calculating the quotas was provided in the proposed rule (October 6, 2005; 70 FR 58366) and is not repeated here.

Opening and Closing Dates and Quotas

The final opening and closing dates and quotas for the 2006 first trimester season by region are provided in Table 1.

Table 1.—Final Opening and Closing Dates and Quotas
Species Group | Region | Opening Date | Closure Date | Quota
Large Coastal Sharks | Gulf of Mexico |  | April 15, 2006 11:30 p.m. local time | 222.8 mt dw (491,185 lb dw)
| South Atlantic | January 1, 2006 | March 15, 2006 11:30 p.m. local time | 141.3 mt dw (311,510 lb dw)
| North Atlantic |  | April 30, 2006 11:30 p.m. local time | 5.3 mt dw (11,684 lb dw)
Small Coastal Sharks | Gulf of Mexico |  |  | 14.8 mt dw (32,628 lb dw)
| South Atlantic | January 1, 2006 | To be determined, as necessary | 284.6 mt dw (627,429 lb dw)
| North Atlantic |  |  | 18.7 mt dw (41,226 lb dw)
Blue sharks | No regional quotas |  |  | 91 mt dw (200,619 lb dw)
Porbeagle sharks |  | January 1, 2006 | To be determined, as necessary | 30.7 mt dw (67,681 lb dw)
Pelagic sharks other than blue or porbeagle |  |  |  | 162.7 mt dw (358,688 lb dw)

Response to Comments

Comments on the October 6, 2005, proposed rule (70 FR 58366) received during the public comment period are summarized below, together with NMFS' responses.

Comment 1: NMFS should stop all commercial shark fishing and should not use catch data from the commercial shark fishing industry to establish population numbers.

Response: NMFS established a rebuilding plan for LCS in 2003 to stop overfishing and address the overfished status of the LCS complex, thus ensuring a sustainable harvest of LCS consistent with the Magnuson-Stevens Act. SCS, other than finetooth sharks, and pelagic sharks are not overfished and overfishing is not occurring. Finetooth shark overfishing is being addressed in the Draft Consolidated HMS FMP. NMFS relies on a number of both fishery dependent and independent data sources, including landings information from fishermen and dealers, in conducting stock assessments and establishing commercial quotas. NMFS does not believe that stopping all commercial shark fishing is warranted. Thus, stopping all commercial fishing could, needlessly, force out of business a number of businesses, including fishermen, processors, suppliers, and dealers and could, again needlessly, adversely affect a number of communities, including recreational fishing communities, would be adversely affected. The Magnuson-Stevens Act requires that NMFS maximize the economic benefit of all fishery resources. This includes the harvest of Atlantic sharks, for which there has been a management plan in place since the early 1990's.

Comment 2: NMFS should reduce shark harvests until the fishery has stabilized.

Response: The current rebuilding plan implemented in 2003, reduced the LCS quotas to 1,017 mt dw, thus ensuring a sustainable fishery and viability of Atlantic shark populations in compliance with the requirements of the Magnuson-Stevens Act and other domestic laws. NMFS believes that the current harvest levels are appropriate and is currently conducting a stock assessment for LCS. If necessary, NMFS will adjust the LCS quota based on the results of the stock assessment and any other relevant information.

Changes From the October 6, 2005, Proposed Rule (70 FR 58366)

NMFS is not implementing any changes to the proposed rule. The provisions published in the proposed rule are adopted as final.

Classification

This temporary rule is published under the authority of the Magnuson-Stevens Act, 16 U.S.C. 1801 et seq. The Chief Counsel for Regulation at the Department of Commerce certified to the Chief Counsel for Advocacy at the Small Business Administration that this action would not have a significant economic impact on a substantial number of small entities.

The factual basis for this certification was published in the October 16, 2005, proposed rule (70 FR 58366). No comments were received regarding the economic impact of this rule, and no changes to the certification were made. As a result, no Final Regulatory Flexibility Act analysis was prepared. This final rule will not increase overall quotas, landings, or regional percentages for LCS or SCS, implement any new management measures not previously considered, and is not expected to increase fishing effort or protected species interactions.

This final rule has been determined to be not significant for purposes of Executive Order 12866.

NMFS determined that this rule will be implemented in a manner that is consistent, to the maximum extent practicable, with the enforceable policies of the approved coastal zone management (CZM) programs of coastal states in the Atlantic, Gulf of Mexico, and Caribbean. NMFS asked for states' concurrence with this determination during the proposed rule stage. Florida, Mississippi, Rhode Island, New Hampshire, Massachusetts, North Carolina, and Pennsylvania replied affirmatively regarding the consistency determination, and one state (Texas) indicated that its CZM program no longer issues consistency determinations for federally managed fishing activities. NMFS presumes that the remaining states that have not yet responded concur with the determination.

Authority: 16 U.S.C. 971 et seq.; 16 U.S.C. 1801 et seq.

Dated: November 28, 2005.
William T. Hogarth,
Assistant Administrator for Fisheries, National Marine Fisheries Service.

[FR Doc. 05-23532 Filed 11-30-05; 8:45 am]

BILLING CODE 3510-22-S